ENVIRONMENTAL PROTECTION AGENCY

40 CFR Part 300

[EPA-HQ-SFUND-2005-0011; FRL-9980-60—Region 3]

National Oil and Hazardous Substances Pollution Contingency Plan; National Priorities List: Deletion of the Dorney Road Landfill Superfund Site

AGENCY: Environmental Protection Agency (EPA).

ACTION: Proposed rule; notice of intent.

SUMMARY: The Environmental Protection Agency (EPA) Region III is issuing a Notice of Intent to Delete the Dorney Road Landfill Superfund Site (Site) located in Longswamp and Upper Macungie Townships, in Berks and Lehigh Counties, Pennsylvania from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Pennsylvania (the Commonwealth), through the Pennsylvania Department of Environmental Protection (PADEP), have determined that all appropriate response actions under CERCLA, other than operation and maintenance (O&M), monitoring, and Five-Year Reviews, have been completed. However, this deletion would not preclude future actions under Superfund.

DATES: Comments must be received by August 16, 2018.

ADDRESSES: Submit your comments, identified by Docket ID No. EPA-HQ-SFUND-2005-0011, by one of the following methods:

• http://www.regulations.gov Follow on-line instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

• Email: greaves.david@epa.gov.

• Mail: U.S. EPA Region III, 1650 Arch Street, Philadelphia, PA 19103.

• Hand delivery: U.S. EPA Region III, 1650 Arch Street, Philadelphia, PA 19103. Such deliveries are only accepted during the Docket's normal hours of operation, and special arrangements should be made for deliveries of boxed information.

Instructions: Direct your comments to Docket ID No. EPA-HQ-SFUND-2005-0011. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in the hard copy. Publicly available docket materials are available either electronically in http://www.regulations.gov or in hard copy at:

U.S. EPA Region III Administrative Records Room, 1650 Arch Street—6th Floor, Philadelphia, PA 19103-2029, Business Hours: Monday through Friday, 8:00 a.m.-4:30 p.m.; by appointment only

Local Repository, Upper Macungie Township Building, 8330 Schantz Road, Breinigsville, PA 18031, Business Hours: Monday through Friday, 7:30 a.m.-4:00 p.m.

FOR FURTHER INFORMATION CONTACT: David Greaves, Remedial Project Manager, U.S. Environmental Protection Agency, Region 3, 3HS211650 Arch Street Philadelphia, PA 19103, (215) 814-5729, email: greaves.david@epa.gov.

SUPPLEMENTARY INFORMATION:

Table of Contents

I. Introduction

II. NPL Deletion Criteria

III. Deletion Procedures

IV. Basis for Intended Site Deletion

I. Introduction

EPA Region III announces its intent to delete the Dorney Road Landfill Superfund Site from the National Priorities List (NPL) and requests public comment on this proposed action. The NPL constitutes Appendix B of 40 CFR part 300 which is the National Oil and Hazardous Substances Pollution Contingency Plan (NCP), which EPA promulgated pursuant to section 105 of the Comprehensive Environmental Response, Compensation, and Liability Act (CERCLA) of 1980, as amended. EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

EPA will accept comments on the proposal to delete this Site for thirty (30) days after publication of this document in the Federal Register.

Section II of this document explains the criteria for deleting sites from the NPL. Section III discusses procedures that EPA is using for this action. Section IV discusses the Dorney Road Landfill Superfund Site and demonstrates how it meets the deletion criteria.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) EPA consulted with the Commonwealth before developing this Notice of Intent to Delete.

(2) EPA has provided the Commonwealth 30 working days for review of this notice prior to publication of it today.

(3) In accordance with the criteria discussed above, EPA has determined that no further response is appropriate.

(4) The Commonwealth of Pennsylvania, through the Pennsylvania Department of Environmental Protection (PADEP), has concurred with deletion of the Site from the NPL.

(5) Concurrently with the publication of this Notice of Intent to Delete in the Federal Register, a notice is being published in a major local newspaper, the Reading Eagle. The newspaper notice announces the 30-day public comment period concerning the Notice of Intent to Delete the Site from the NPL.

(6) The EPA placed copies of documents supporting the proposed deletion in the deletion docket and made these items available for public inspection and copying at the Site information repositories identified above.

If comments are received within the 30-day public comment period on this document, EPA will evaluate and respond appropriately to the comments before making a final decision to delete. If necessary, EPA will prepare a Responsiveness Summary to address any significant public comments received. After the public comment period, if EPA determines it is still appropriate to delete the Site, the Regional Administrator will publish a final Notice of Deletion in the Federal Register. Public notices, public submissions and copies of the Responsiveness Summary, if prepared, will be made available to interested parties and in the site information repositories listed above.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Site Deletion

The following information provides EPA's rationale for deleting the Site from the NPL:

Site Background and History

EPA proposed the Dorney Road Landfill Superfund Site (Site) (CERCLIS ID PAD980508832) to the NPL on September 8, 1983 (48 FR 40674) and added the Site as final on the NPL on September 21, 1984 (49 FR 37070). The Site is located along the southwest boundary of Upper Macungie Township in Lehigh County, PA, with a small portion of the Site extending into Longswamp Township in Berks County.

The 27-acre Site consists of an abandoned iron mine pit that was used as a landfill, a surrounding soil berm, and adjacent land. Beginning in 1962, the Site was operated as an open dump, with the majority of waste disposed in an abandoned mine pit. The landfill was expanded to except a variety of household and industrial waste from regional municipalities and local businesses, until operations ceased in December 1978.

In all areas of the Site, except for the northwestern portion, the water table occurs in the bedrock near or below the bedrock/overburden interface. The overburden is approximately 70 feet thick. The landfill waste is contained within the overburden. The water table exists within the overburden areas of relatively thick overburden and in the bedrock where the overburden is relatively thin. The water table is not in contact with the waste material. The direction of regional groundwater flow in the bedrock-overburden aquifer is generally from the northwest to the southeast.

In January 1970, the Pennsylvania State Health Center notified the landfill owner that the landfill constituted a public health threat and required the owner to compact the fill and apply cover to the landfill. A follow-up letter stated that the owner did not comply with the directive. In June 1970, a representative from the Pennsylvania Department of the Environmental Resources (PADER, formerly, the Pennsylvania State Health Center) visited the landfill and noted the approximate location of an on-site area used for the disposal of sludge. Other visits identified the disposal of petroleum products, asbestos, and battery casings.

Contaminants in the leachate and groundwater included ketones, vinyl chloride, trichloroethene (TCE), benzene, heavy metals, and arsenic. Soils contained the pesticide dieldrin, as well as lead and chromium. The apparent source of contamination was the waste buried and dumped on the soil at the landfill.

In 1986, EPA performed an Emergency Removal Action at the Site to ensure that landfill-related materials were not transported off of the property by storm water. The removal action consisted of re-grading the Site to prevent surface water runoff. The construction of on-site ponds allowed for controlled discharge of surface water via two major spillways. Although a soil cover was applied to portions of the Site, the landfill had never been graded and capped, and waste continued to be exposed in some areas.

Remedial Investigation and Feasibility Study (RI/FS)

The Site consists of two operable units (OUs). OU1 addresses the source of the contamination by capping the landfill. OU2 focuses on addressing groundwater contamination which is the principal exposure pathway.

A Cooperative Agreement was signed between EPA and PADER, and PADER became the lead agency for work in the RI/FS phase. The OU1 RI was performed from January to June 1988. Due to difficulties encountered during Phase I activities, additional data needs were identified and investigative activities were proposed as a Phase II RI effort. Results of the OU1 RI were presented in the Final Remedial Investigation Report for OU1 dated August 11, 1988. A Feasibility Study for OU1, focusing on the landfill waste, was also submitted in August 1988. The OU2 RI/FS was performed by PADER from March to July 1991. The study focused on the groundwater and primarily consisted of additional sampling of wells installed during the OU1 RI.

Major field activities conducted during Phase I of the OU1 RI included:

• Air sampling;

• On-site surface water and seep sampling;

• On-site sediment sampling;

• On-site and off-site, surface and subsurface soil sampling;

• Monitoring well installation;

• Groundwater monitoring well and residential well sampling;

• Hydraulic conductivity testing;

• Fracture trace analysis;

• Surface geophysical investigation.

The major field activities performed during Phase II of the OU1 RI included:

• Installed one deep well off-site (MW-6) to the southeast to obtain downgradient groundwater data.

• Installed an off-site well nest (MW-7/7D) to the northwest of the landfill to provide additional groundwater quality data and flow information.

• Installed on-site boring (TB-LMW-4) to determine the thickness of gravel between the base of the refuse and the top of the bedrock.

• Installed four borings (TB-1,2,3,4) along the southeast corner of the site to identify the presence or absence of a shallow groundwater zone identified during the OU1 Phase I RI.

• Obtained six additional groundwater samples (MW-6, 7, 7D, two rounds) and analyzed for unfiltered metals.

• Performed borehole geophysics in off-site wells (MW-2D, 3D, 4, 5D, 6, 7, 7D). Borehole geophysics were performed to supplement the minimal lithological data obtained during the OU1 Phase 1 and Phase II RI drilling and well installation activities due to difficulty in drilling and poor recoveries.

Air sampling was performed to determine the quantity and quality of ambient airborne contaminants to evaluate the potential exposure to on-site workers and neighboring populations. The data was used to determine the appropriate level of protection on-site, and to establish the exclusion, contamination reduction, and support zone delineations used during the field activities.

A fracture trace analysis was performed to provide information on the number, size, frequency and orientation of bedrock joints, fractures, and large-scale lineaments. The data was used for determining monitoring well locations and for evaluation of the potential for contaminant migration through bedrock.

A geophysical investigation (seismic refraction survey) was performed to obtain information on the thickness of overburden and the depth to bedrock, the thickness of the landfill waste, the condition of the bedrock at the iron mine pit, and to verify any lineaments previously identified.

Sampling and analysis of the on-site ponds was performed to collect data on the contaminant concentrations in the standing liquid and bottom sediments. The data was used to estimate the extent and degree of contamination and estimate the volumes of liquid and soil to be treated and/or removed.

Soil sampling was performed to provide data on the chemical characteristics of soils both on-site and off-site, to determine the degree of off-site migration of contamination, and to provide data concerning the on-site vertical and horizontal extent of contamination. For comparison to on-site data, a background sample was collected approximately 900 ft. west of the Site and was assumed to be isolated from any site-related conditions. On-site soils exceeded EPA's acceptable levels for both cancer risk and non-cancer hazard index primarily due to polycyclic aromatic hydrocarbons (PAHs), arsenic, lead and chromium. Contaminants in leachate and groundwater included ketones, 1,1-dichloroethene (1,1-DCE), 1,2-dichloroethane (1,2-DCA), TCE, tetrachloroethylene (PCE), vinyl chloride, benzene and arsenic. Both cancer and non-cancer groundwater risk substantially exceeded EPA's acceptable criteria. Risk at the Site was due to dermal contact and incidental ingestion of landfill soil, solid waste and on-site ponded waters (OU1) and residential exposure via ingestion of contaminated groundwater and inhalation of volatile contaminants while showering (OU2).

Selected Remedy

On September 29, 1988, the Acting Regional Administrator signed a Record of Decision (ROD) for OU1. The Selected Remedy in the 1988 OU1 ROD consists of the following components:

• Elimination of on-site ponded waters

• Regrading

• Pennsylvania-Type Multi-layer Cap

• Run-on/Run-off Controls

• Run-off Monitoring

• Groundwater Monitoring

• Perimeter Fence

• Deed Notice

The Remedial Action objectives (RAOs) were not explicitly stated in the ROD for OU1. The following RAOs were inferred:

• Control contaminant migration off-site by containment of contaminated landfill soil and waste material;

• Prevent dermal contact and incidental ingestion; and

• Prevent continued leaching of precipitation and ponded waters through the contaminated landfill material.

On September 18, 1991, the Regional Administrator signed an Explanation of Significant Differences (ESD) for OU1. The 1991 ESD was issued to address compliance with wetlands Applicable or Relevant and Appropriate Requirements (ARARs). The Selected Remedy in the 1988 OU1 ROD required the destruction of approximately seven acres of wetlands during construction of the cap. The 1991 ESD allowed the sedimentation ponds required to control run-on/run-off from the cap to also mitigate the destroyed wetlands and become a quality habitat for the varied wildlife at the Site.

On September 30, 1991, the Regional Administrator signed a ROD for OU2 (1991 OU2 ROD), selecting a remedy with the following major components:

• Wellhead treatment units to be provided to residences if levels of site-related contaminants exceeded federal Maximum Contaminant Levels (MCLs);

• Groundwater monitoring.

The RAO for OU2 was not explicitly stated in the 1991 OU2 ROD; however, the RAO is inferred to be to eliminate exposure to contaminated groundwater.

Response Actions

In September 1990, EPA issued a Unilateral Administrative Order (UAO), EPA Docket No. III-90-45-DC, to seven Potentially Responsible Parties (PRPs) after negotiations were unsuccessful. A second UAO, EPA Docket No. III-91-26-DC, was issued to an eighth PRP on January 25, 1991, and a third UAO, EPA Docket No. III-92-33-DC, was issued to five additional PRPs on August 13, 1992. The UAOs required the PRPs to implement the Selected Remedy described in the 1988 OU1 ROD. The modifications to the Selected Remedy specified in the September 18, 1991 ESD were incorporated into the UAOs. The Remedial Design (RD) was approved in June 1995.

The Remedial Action (RA) for OU1 began in April 1998. The major components of the RA included the following:

• Site clearing which included removal of ponded water, clearing of vegetative cover, chipping woody vegetation, and relocation of fugitive surface debris under the cover system;

• Monitoring well abandonment;

• Gas trench construction, which was designed to minimize the lateral flow of landfill gas outside the landfill limits below the surface. The design included a peripheral gas collection trench just beyond the lateral extent of the landfill;

• Landfill regrading to achieve the grades and slopes for the acceptance of the cover system;

• Subgrade preparation which involved grading and placement of compacted general fill;

• Construction of a gas vent layer on top of the landfill. A geocomposite was used as a gas vent layer on the side slopes of the landfill.

• Gas vent collection piping system consisting of flexible 4-inch perforated High Density Polyethylene (HDPE) pipe along the top of the gas trench connected to seventeen 4-inch HDPE conveyance pipes which were connected to seventeen peripheral passive vents along the crest of the cap. On the surface of the cap, an additional fourteen passive vents were installed with four horizontal perforated flexible HDPE feeder pipes to collect the gas and vent it passively through vent pipes;

• A geotextile was placed over the gas venting layer prior to installation of the grading layer;

• Two types of geomembrane were installed. A 40-millimeter smooth HDPE geomembrane was installed where the slopes were minimal and a 40-millimeter textured HDPE geomembrane was installed on the embankment slopes along the periphery of the landfill;

• On the top of the landfill, a geotextile cushion layer was placed over the geomembrane to protect it from the overlying sand drainage layer;

• A sand drainage layer was put in place and another separation geotextile was put on top of the drainage layer;

• An 18-inch layer of compacted general fill on the cover system and 24-inches of general fill on the cover system slopes serve as protection layer over the underlying system;

• A vegetative layer was the final cover;

• Surface drainage was designed with five basic drainage patterns. These patterns were rough graded during initial landfill grading operations and incorporated as part of the temporary erosion sediment control plan. Permanent drainage incorporated the use of stormwater pipes, riprap channels and natural drainage systems;

• A replacement wetland was constructed, which also serves as a stormwater drainage area; and

• A chain link security fence was installed with proper signage.

The contractor conducted the RA basically as designed, with only minor modifications. One modification had to be made for the construction of the wetlands. The west pond contained a large rock which had to be excavated with a rock hammer and processed using a rock crusher. This generated approximately 30,000 cubic yards of fill that was used on the general fill layer of the landfill cap. Another modification was with the placement of the fence on Dorney Road. A variance was needed from the Township to construct the fence closer to the street than 6 feet in order to avoid puncturing the cap with the fence posts. The variance was granted and the fence was installed according to the specifications.

EPA, PADEP and the U.S. Army Corps of Engineers (COE) conducted a pre-final inspection on September 20, 1999. The inspection resulted in a schedule for the contractor to correct some minor construction items.

EPA issued a UAO for the OU2 RD/RA, EPA Docket No. III-92-27-DC, to twelve PRPs on August 18, 1992. The baseline residential well sampling for OU2 was conducted during the first two weeks of March 1999. The 1991 OU2 ROD and RD required residential groundwater samples to be compared to federal MCLs. If the sampling results were above the MCLs, wellhead treatment units would be required. The baseline results were below the MCLs at all residential wells and no wellhead treatment units were installed. Residential monitoring is ongoing. The operation and maintenance plans (O&M Plans) for OU1 and OU2 were approved by EPA and PADEP in October 1997 and September 1996, respectively. The Preliminary Closeout Report (PCOR) was issued for the Site on September 28, 1999. The PCOR documents that construction activities were completed at the Site in accordance with Closeout Procedures For National Priorities Sites (OSWER Directive 9320.2-09A-P).

Cleanup Levels

Groundwater monitoring is performed in accordance with the 1988 OU1 ROD and 1995 OU1 O&M Plan at the landfill monitoring well network and in accordance with the 1991 OU2 ROD and 1996 O&M Plan at the residential well monitoring network.

Landfill monitoring is conducted to detect any changes in groundwater quality due to leaching of landfill contaminants. The landfill monitoring network consists of the following wells: MW-2S, MW-2DR, MW-3S, MW-7S, MW-11S and MW-11D. During each sampling event, groundwater samples are analyzed for volatile organic compounds (VOCs) and dissolved metals. Field activities, groundwater elevation data, groundwater quality data and the results of the data validation are presented in each summary report. A summary of all historical data is also presented in the summary reports.

During the 2013-2017 period, several metals were detected in the landfill monitoring wells. The detected VOCs included PCE, TCE, and chloromethane. All detections during the 2013-2017 period were within the historical range of concentrations and remain very low. Most are well below MCLs except for manganese, mercury and thallium in MW-7S and thallium in MW-3S. MW-7S is up gradient of the landfill and these exceedances do not appear to be site related. Thallium was only detected in MW-3S during two sampling events in 2016, but had not been detected previously or in subsequent sampling events. Based on a review of historical monitoring from 2013 to 2017 from all other monitoring wells, there have been no exceedances of MCLs during this period.

The 1988 OU1 ROD did not select chemical-specific ARARs for groundwater. Instead, the 1988 OU1 ROD required groundwater monitoring upgradient and downgradient of the Site to detect any changes in groundwater quality due to the potential leaching of landfill contaminants into groundwater. As indicated above, detections of Site-related compounds in groundwater are generally below the respective MCLs and have remained consistent with historic groundwater sampling results. Therefore, no impacts to groundwater as a result of leaching of landfill contaminants have been observed and the groundwater cleanup goal established in the 1988 OU1 ROD has been achieved.

Residential wells are sampled quarterly on a rotating basis so the same wells are not sampled every event. Groundwater samples are collected from an inside or outside spigot and analyzed for VOCs. Twenty-eight residential wells were sampled between the 2013 and 2017. Of those 28 wells, 14 wells had one or more detections of VOCs. The most commonly detected VOC is PCE. The PCE concentrations are consistent with historical concentrations at these locations. Chloroform was detected at two locations in 2016 and TCE was detected once in 2013. All detections from 2013 to 2017 have been well below respective MCLs and have never exceeded MCLs during any monitoring event.

The 1991 OU2 ROD waived the Pennsylvania Hazardous Waste Management Regulations [25 PA Code §§ 264.90-264.100, specifically 25 PA Code § 264.97(i) and (j) and § 264.100(a)(9)], which require remediation of groundwater to background levels, as well as the requirement to remediate groundwater to federal Maximum Contaminant Levels (MCLs) under the Safe Drinking Water Act, 42 U.S.C. 300g-l and set forth in 40 CFR 141.61. These ARARs were waived in accordance with CERCLA (42 U.S.C. 9621(d)(4)(C)) and the NCP (40 CFR 300.430(f)(1)(ii)(C)(3)) due to technical impracticability of achieving background levels (from an engineering perspective) and MCLs throughout the groundwater contaminant plume. As indicated above, detections of Site-related compounds in groundwater are generally below the respective MCLs in Site monitoring wells.

The 1991 OU2 ROD required that MCLs be met for Site related contaminants of concern (COCs) at the tap prior to use of the groundwater by nearby residents. Wellhead treatment systems would be provided if any Site related MCL exceedances were identified. As indicated above, no Site-related compounds exceeded MCLs in any residential samples during the most recent Five-Year Review period from 2013 to 2017. Additionally, no Site related COCs have been identified in any residential samples above MCLs since sampling began in 1999. Therefore, the RAO of eliminating exposure to contaminated groundwater has been achieved. Residential monitoring will continue to ensure that groundwater cleanup goals continue to be met.

Operation and Maintenance

The PRP group conducts long-term monitoring and maintenance activities at the Site in accordance with the EPA-approved August 1995 OU1 O&M Plan and January 1996 OU2 O&M Plan. The primary activities associated with O&M include the following:

• Visual inspection of the cap with regard to vegetative cover, settlement, stability, and any need for corrective action. In addition, the cap is scheduled for periodic mowing;

• Inspection of the drainage swales for blockage, erosion and instability, and any need for corrective action;

• Inspection of the condition of the groundwater monitoring wells;

• Quarterly groundwater monitoring, which includes monitoring of the landfill wells and residential wells; and

• Engineered wetlands inspection and assessment. Inspections are conducted primarily for the purposes of assessing both weed control needs and the survival of plantings. Assessments are performed to determine if engineered wetlands are meeting the performance standards regarding survival and density of the desired wetlands species.

The City of Allentown conducts the quarterly inspections of the landfill, as well as the quarterly groundwater sampling of both the landfill wells and the residential wells. Over the last five years there have been few, if any, problems with the landfill.

As established in the 1991 OU2 ROD, long-term monitoring is conducted on a quarterly basis at five residences selected based on the previous sampling results. The quarterly sampling is conducted by the City of Allentown. The quarterly sampling program may be modified by EPA, in such areas as the number of wells, location of wells, frequency of sampling, and analytical parameters. If quarterly sampling indicates that a residential well that exceeds MCLs, a wellhead treatment system would be provided and maintained. There have been no quarterly residential samples which have been above MCLs since sampling began in March 1999.

In March of 2007 EPA issued a second ESD (2007 ESD) that required institutional controls (ICs) (e.g. easements, covenants, title notices or land use restrictions through orders or agreements with EPA), to be established to prevent any future use of the Site that could compromise the effectiveness of the Selected Remedy.

The ICs were established to prevent the disturbance of the landfill cap and the installation of groundwater wells on the capped portion of the Dorney Road Landfill property and to prevent future use of the property that would compromise the effectiveness of the Selected Remedy.

EPA surveyed the landfill property to determine the parcel boundaries and to confirm the current property owners in 2011. An assessment of the ICs already in place concluded that ICs to protect the integrity of the cap cover system and prevent the installation of drinking water wells on the landfill were implemented by the following instruments with the four Site owners:

• Unilateral Administrative Order Docket No. III-98-011-DC, March 3, 1998, for access to conduct RA

• Unilateral Administrative Order for Access Docket No. III-96-79-DC, September 18, 1996, for access to conduct RA

• Administrative Order by Consent, Docket No. III-97-84-DC, May 14, 1997, for access and resolution of liability

• Administrative Order by Consent Docket No. III-97-85-DC, May 14, 1997, for access and resolution of liability

• Administrative Order for Access Docket No. III-98-013-DC, for access to conduct RA

• Docket No. III-98-012-DC, March 3, 1998, for access to conduct RA, respondent In Rem

• Deed Notice No. 8665-9544 May 10, 1991 states that property is part of Dorney Road Landfill CERCLA action in Docket No. III-90-45-DC

Five-Year Review

Pursuant to CERCLA section 121(c) and as provided in the current guidance on Five-Year Reviews, Comprehensive Five-Year Review Guidance, OSWER Directive 9355.7-03B-P, June 2001, EPA must conduct a statutory Five-Year Review if hazardous substances remain on-site above levels that would not allow for unlimited use and unrestricted exposure. The Five-Year Reviews for the Site were signed on the following dates:

1. First Five-Year Review—July 11, 2003

2. Second Five-Year Review—July 28, 2008

3. Third Five-Year Review—May 29, 2013

4. Fourth Five-Year Review—May 18, 2018

No issues or recommendations were identified in the 2018 Fourth Five-Year Review. The Protectiveness Statement in the 2018 Fourth Five-Year Review was as follows:

The remedies in place at the Site are protective of human health and the environment. The landfill cap prevents direct contact with site contamination and prevents migration of contaminants to groundwater. Groundwater contamination is stable in landfill wells with most contaminants below MCLs. Residential monitoring indicates site contaminants remain below MCLs. The institutional controls in place are adequate to protect the engineered remedy and prevent installation of drinking water wells on the landfill.”

Community Involvement

EPA community relations staff conducted an active campaign to ensure that the residents were well informed about activities at the Site. Community relations activities included the following:

• Interviews of Township officials for Five-Year Reviews

• Fact Sheets

In accordance with the requirements of 40 CFR 300.425(e)(4), EPA's community involvement activities associated with this deletion will consist of information supporting the deletion docket in the local Site information repository and placing a public notice of EPA's intent to delete the Site from the NPL in the Reading Eagle, a major, local newspaper of general circulation.

Determination That the Site Meets the Criteria for Deletion in the NCP

Construction of the Selected Remedy at the Site has been completed and O&M has been untaken and is still ongoing in accordance with the EPA-approved O&M Plans. All RAOs, Performance Standards, and cleanup goals established in the 1988 OU1 ROD, 1991 OU2 ROD, 1991 ESD and 2007 ESD have been achieved and the Selected Remedy is protective of human health and the environment. No further Superfund response actions, other than O&M, monitoring, and Five-Year Reviews, are necessary to protect human health and the environment.

The procedures specified in 40 CFR 300.425(e) have been followed for the deletion of the Site. EPA, with concurrence of the Commonwealth through PADEP, has determined that all appropriate response actions under CERCLA, have been completed. Therefore, EPA is deleting the Site from the NPL.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: June 19, 2018.
Cosmo Servidio,
Regional Administrator, EPA Region III.

[FR Doc. 2018-15245 Filed 7-16-18; 8:45 am]

BILLING CODE 6560-50-P